ENVIRONMENTAL PROTECTION AGENCY

[EPA—New England Region I-EPA-R01-OW-2011-0364; FRL-9299-6]

Massachusetts Marine Sanitation Device Standard—Receipt of Petition

AGENCY: Environmental Protection Agency (EPA).

ACTION: Notice—receipt of petition.

SUMMARY: Notice is hereby given that a petition has been received from the Commonwealth of Massachusetts requesting a determination by the Regional Administrator, U.S. Environmental Protection Agency, that adequate facilities for the safe and sanitary removal and treatment of sewage from all vessels are reasonably available for the waters of Chatham, Orleans, Eastham, Wellfleet, Truro, and Provincetown, collectively termed the Outer Cape Cod for the purpose of this notice.

DATES: Comments must be submitted by May 31, 2011.

ADDRESSES: Submit your comments, identified by Docket ID No. EPA-R01-OW-2011-0364, by one of the following methods: http://www.regulations.gov, Follow the on-line instructions for submitting comments.

• E-mail: rodney.ann@epa.gov.

• Fax: (617) 918-0538

Mail and hand delivery: U.S. Environmental Protection Agency—New England Region, Five Post Office Square, Suite 100, OEP06-1, Boston, MA 02109-3912. Deliveries are only accepted during the Regional Office's normal hours of operation (8 a.m.-5 p.m., Monday through Friday, excluding legal holidays), and special arrangements should be made for deliveries of boxed information.

Instructions: Direct your comments to Docket ID No. EPA-R01-OW-2011-0364. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov, or e-mail. The www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, e.g., CBI or other information whose disclosure is restricted by statute. Certain other material, such as copy-righted material, will be publicly available only in hard copy. Publicly available docket materials are available either electronically in http://www.regulations.gov or in hard copy at the U.S. Environmental Protection Agency—New England Region, Five Post Office Square, Suite 100, OEP06-01, Boston, MA 02109-3912. Such deliveries are only accepted during the Regional Office's normal hours of operation, and special arrangements should be made for deliveries of boxed information. The Regional Office is open from 8 a.m.-5 p.m., Monday through Friday, excluding legal holidays. The telephone number is (617) 918-1538.

FOR FURTHER INFORMATION CONTACT: Ann Rodney, U.S. Environmental Protection Agency—New England Region, Five Post Office Square, Suite 100, OEP06-01, Boston, MA 02109-3912. Telephone: (617) 918-1538, Fax number: (617) 918-0538; e-mail address: rodney.ann@epa.gov.

SUPPLEMENTARY INFORMATION:

Notice is hereby given that a petition has been received from the Commonwealth of Massachusetts requesting a determination by the Regional Administrator, U.S. Environmental Protection Agency, pursuant to Section 312(f)(3) of Public Law 92-500 as amended by Public Law 95-217 and Public Law 100-4, that adequate facilities for the safe and sanitary removal and treatment of sewage from all vessels are reasonably available for the Outer Cape Cod area.

The Outer Cape Cod No Discharge Area will encompass the tidal waters for Chatham, Orleans, Eastham, Wellfleet, Truro, and Provincetown, and from mean high water out to the State/Federal boundary. Within Nauset Harbor, the NDA covers all tidal waters and all embayments including: Nauset Bay, Salt Pond, Salt Pond Bay, Woods Cove, Rachel Cove, and Mill Pond.

The proposed No Discharge Area for the Outer Cape Cod:

Waterbody/general area | From longitude | From latitude | To longitude | To latitude
The westernmost landward boundary of the NDA starting on the south side of Chatham is an imaginary line drawn between the western part of the outlet of Stage Harbor and the northern tip of Monomoy Island (All state waters east of Monomoy Island are included in this NDA) | 69°59′0″ W | 41°39′26″ N | 69°59′0″ W | 41°37′20″ N
The southwestern boundary then continues from the southern tip of Monomoy Island through two navigational aids to the state/federal waters boundary | 70°0′36″ W | 41°32′30″ N | 70°0′11″ W | 41°29′15″ N
The landward boundary of the NDA follows the mean high water line from Chatham to Provincetown except at an imaginary line drawn between: (This imaginary line is across the mouth of Pleasant Bay, which is already an NDA) | 69°56′36″ W | 41°39′40″ N | 69°56′6″ W | 41°40′56″ N
The westernmost boundary on the northern side of Cape Cod is an imaginary line drawn from three miles off shore to the mean high water line in Provincetown (This imaginary line is contiguous with the Cape Cod Bay NDA) | 70°10′0″ W | 42°7′59″ N | 70°10′0″ W | 42°4′47″ N
The eastern edge of the boundary is contiguous with the state/federal line also known as the Submerged Lands Act boundary line and Territorial Sea boundary

The boundaries were chosen based on easy line-of-sight locations and generally represent all navigational waters.

There is only one harbor within the proposed Outer Cape Cod NDA, which is Nauset Harbor. Small skiffs owned by the residents of the area are the primary users of Nauset Harbor. Other vessels that would use the harbor would most likely come from Provincetown Harbor, Pleasant Bay, or Chatham Harbor, all of which are currently NDAs and have pumpout facilities for these boaters. Massachusetts has certified that there is one landside pumpout facility at Goose Hummock Marine in Orleans within the proposed area available to the boating public. The location, contact information, hours of operation, and water depth are provided at the end of this petition.

Massachusetts has provided documentation indicating that the total vessel population is estimated to be 519 in the proposed area. It is estimated that 91 of the total vessel population may have a Marine Sanitation Device (MSD) of some type.

The majority of coastline of the proposed area is the Cape Cod National Seashore, a 43,500 acre park established by Congress in 1961 to, “preserve the nationally significant and special cultural and natural features, distinctive patterns of human activity, and ambience that characterize the Outer Cape, along with the associated scenic, cultural, historic, scientific, and recreational values”, and to, “provide opportunities for current and future generations to experience, enjoy, and understand these features and values.”

The various beaches, marshes, and harbors and their recreational opportunities attract thousands of visitors to Cape Cod every year. On the eastern shore of Cape Cod, from Chatham to Provincetown there are 24 bathing beaches covering over thirty miles of coastline.

The area contains known habitat for soft shelled clam, surf clam, sea scallop, quahog, ocean quahog, and blue mussel; all important recreational and commercial species.

Pumpout Facility Within Proposed No Discharge Area
[Outer Cape Cod]
Name | Location | Contact info. | Hours | Mean low water depth
Goose Hummock Marine, Nauset Harbor | 13 Old County Rd, Orleans, MA | 508-255-2620 VHF 16 | On call | 3 ft.

Dated: April 20, 2011.
Ira W. Leighton,
Acting Regional Administrator, New England Region.

[FR Doc. 2011-10347 Filed 4-28-11; 8:45 am]

BILLING CODE 6560-50-P